DEPARTMENT OF COMMERCE

International Trade Administration

[A-351-806, A-570-806, A-351-824, A-570-828, A-823-805]

Continuation of Antidumping Duty Orders on Silicon Metal From Brazil and China and on Silicomanganese From Brazil and China, and Continuation of Suspended Antidumping Duty Investigation on Silicomanganese From Ukraine

AGENCY: Import Administration, International Trade Administration, Department of Commerce.

ACTION: Notice of continuation of antidumping duty orders on silicon metal from Brazil and China and on silicomanganese from Brazil and China, and of suspended antidumping duty investigation on silicomanganese from Ukraine.

SUMMARY: The Department of Commerce (“the Department”), pursuant to sections 751(c) and 752 of the Tariff Act of 1930, as amended (“the Act”), determined that revocation of the antidumping duty orders on silicon metal from Brazil and China and on silicomanganese from Brazil and China, and termination of the agreement suspending the antidumping duty investigation (“the Agreement”) on silicomanganese from Ukraine would be likely to lead to continuation or recurrence of dumping.¹ On February 5, 2001, the International Trade Commission (“the Commission”), pursuant to section 751(c) of the Act, determined that revocation of the antidumping duty orders on silicon metal from Brazil and China and on silicomanganese from Brazil and China, and termination of the agreement on silicomanganese from Ukraine would be likely to lead to continuation or recurrence of material injury to industries in the United States within a reasonably foreseeable time (66 FR 8981 (February 5, 2001)). Therefore, pursuant to 19 CFR 351.218(f)(4), the Department is publishing notice of the continuation of the antidumping duty orders on silicon metal from Brazil and China and on silicomanganese from Brazil and China, and of the continuation of the suspended investigation on silicomanganese from Ukraine.

¹ Silicon Metal From Brazil; Final Results of Expedited Sunset Review of Antidumping Duty Order, 65 FR 35607 (June 5, 2000), Silicon Metal From the People's Republic of China; Final Results of Expedited Sunset Review of Antidumping Duty Order, 65 FR 35609 (June 5, 2000), Silicomanganese From the People's Republic of China and Brazil; Final Results of Antidumping Duty Expedited Sunset Reviews, 65 FR 35324 (June 2, 2000), and Final Results of Full Sunset Review: Silicomanganese From Ukraine, 65 FR 58045 (September 27, 2000).

EFFECTIVE DATE: February 16, 2001.

FOR FURTHER INFORMATION CONTACT: Martha V. Douthit or James P. Maeder, Office of Policy for Import Administration, International Trade Administration, U.S. Department of Commerce, 14th Street and Constitution Ave., NW., Washington, DC 20230; telephone: (202) 482-5050 or (202) 482-3330, respectively.

SUPPLEMENTARY INFORMATION:

Background

On November 2, 1999, the Department initiated (64 FR 59160) and the Commission instituted (64 FR 59204; 59209) sunset reviews of the antidumping duty orders on silicon metal from Brazil and China and on silicomanganese from Brazil and China, and sunset reviews of the suspended antidumping duty investigation on silicomanganese from Ukraine, pursuant to section 751(c) of the Act. As a result of its reviews, the Department found that revocation of the antidumping duty orders on silicon metal from Brazil and China and on silicomanganese from Brazil and China, and termination of the agreement on Silicomanganese from Ukraine would be likely lead to continuation or recurrence of dumping and notified the Commission of the magnitude of the margin likely to prevail were the orders revoked and the agreement terminated.²

² Silicon Metal From Brazil; Final Results of Expedited Sunset Review of Antidumping Duty Order, 65 FR 35607 (June 5, 2000), Silicon Metal From the People's Republic of China; Final Results of Expedited Sunset Review of Antidumping Duty Order, 65 FR 35609 (June 5, 2000), Silicomanganese From the People's Republic of China and Brazil; Final Results of Antidumping Duty Expedited Sunset Reviews, 65 FR 35324 (June 2, 2000), and Final Results of Full Sunset Review: Silicomanganese From Ukraine, 65 FR 58045 (September 27, 2000).

On February 5, 2001, the Commission determined, pursuant to section 751(c) of the Act, that revocation of the antidumping duty orders on silicon metal from Brazil and China and on silicomanganese from Brazil and China, and termination of the suspended investigation on silicomanganese from Ukraine would be likely to lead to continuation or recurrence of material injury to an industry in the United States within a reasonably foreseeable time. See Silicon Metal From Argentina, Brazil, and China, and Silicomanganese From Brazil, China, and Ukraine, 66 FR 8981 (February 5, 2001) and USITC Pub. 3384 (January 2001) Investigation Nos., 731 TA-470-472, and 731 TA 671-673 (Reviews).

Scope

Silicon Metal—Brazil and China

The merchandise subject to these antidumping duty orders is silicon metal containing at least 96.00 percent, but less than 99.99 percent of silicon by weight. Also covered by these orders is silicon metal containing between 89.00 and 96.00 percent silicon by weight but which contains a higher aluminum content than the silicon metal containing at least 96.00 percent but less than 99.99 percent silicon by weight (58 FR 27542, May 10, 1993). Silicon metal is currently provided for under subheadings 2804.69.10 and 2804.69.50 of the HTS as a chemical product, but is commonly referred to as a metal. Semiconductor-grade silicon (silicon metal containing by weight not less than 99.99 percent of silicon and provided for in subheading 2804.61.00 of the HTS is not subject to these orders. Although the HTS numbers are provided for convenience and customs purposes, the written description remains dispositive.

Silicomanganese—Brazil, China, and Ukraine

The merchandise subject to the orders and the suspension agreement is silicomanganese. Silicomanganese, which is sometimes called ferrosilicon manganese, is a ferroalloy composed principally of manganese, silicon, and iron, and normally containing much smaller proportions of minor elements, such as carbon, phosphorous, and sulfur. Silicomanganese generally contains by weight not less than four percent iron, more than 30 percent manganese, more than eight percent silicon, and not more than three percent phosphorous. All compositions, forms, and sizes of silicomanganese are included within the scope of these orders, and agreement, including silicomanganese slag, fines, and briquettes. Silicomanganese is used primarily in steel production as a source of both silicon and manganese. These antidumping duty orders, and this agreement, cover all silicomanganese, regardless of its tariff classification. Most silicomanganese is currently classifiable under subheading 7202.30.0000 of the HTS schedule. Some silicomanganese may also currently be classifiable under HTS subheading 7202.99.5040. Although the HTS subheadings are provided for convenience and customs purposes, our written description of the scope remains dispositive.

Determination

As a result of the determinations by the Department and the Commission that revocation of the antidumping duty orders and termination of the agreement would be likely to lead to continuation or recurrence of dumping and material injury to an industry in the United States, pursuant to section 751(d)(2) of the Act, the Department hereby orders the continuation of the antidumping duty orders on silicon metal from Brazil and China and on silicomanganese from Brazil and China, and the continuation of the agreement on silicomanganese from Ukraine. The Department will instruct the Customs Service to continue to collect antidumping duty deposits at the rates in effect at the time of entry for all imports of subject merchandise. The effective date of continuation of these orders, and this agreement, will be the date of publication in the Federal Register of this Notice of Continuation. Pursuant to section 751(c)(2) and 751 (c)(6) of the Act, the Department intends to initiate the next five-year review of these orders, and this agreement, not later than January 2006.

This notice is published pursuant to section 703(c)(2) of the Act. Effective January 20, 2001, Bernard T. Carreau is fulfilling the duties of the Assistant Secretary for Import Administration.

Dated: February 12, 2001.
Bernard T. Carreau,
Deputy Assistant Secretary, AD/CVD Enforcement II.

[FR Doc. 01-4023 Filed 2-15-01; 8:45 am]

BILLING CODE 3510-DS-P